DEPARTMENT OF DEFENSE

GENERAL SERVICES ADMINISTRATION

NATIONAL AERONAUTICS AND SPACE ADMINISTRATION

[OMB Control No. 9000-0153; Docket No. 2023-0053; Sequence No. 8]

Submission for OMB Review; Federal Acquisition Regulation Part 11 Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirement regarding certain Federal Acquisition Regulation (FAR) part 11 requirements.

DATES: DoD, GSA, and NASA will consider all comments received by December 21, 2023.

ADDRESSES: Written comments and recommendations for this information collection should be sent within 30 days of publication of this notice to www.reginfo.gov/public/do/PRAMain. Find this particular information collection by selecting “Currently under Review—Open for Public Comments” or by using the search function.

FOR FURTHER INFORMATION CONTACT: Zenaida Delgado, Procurement Analyst, at telephone 202-969-7207, or zenaida.delgado@gsa.gov.

SUPPLEMENTARY INFORMATION:

A. OMB Control Number, Title, and any Associated Form(s)

OMB Control No. 9000-0153, Federal Acquisition Regulation Part 11 Requirements.

B. Need and Uses

DoD, GSA, and NASA are combining OMB Control Nos. by FAR part. This consolidation is expected to improve industry's ability to easily and efficiently identify burdens associated with a given FAR part. The review of the information collections by FAR part allows improved oversight to ensure there is no redundant or unaccounted for burden placed on industry. Lastly, combining information collections in a given FAR part is also expected to reduce the administrative burden associated with processing multiple information collections.

This justification supports the extension of OMB Control No. 9000-0153 and combines it with the previously approved information collections under OMB Control No. 9000-0043, with the new title “Federal Acquisition Regulation Part 11 Requirements”. Upon approval of this consolidated information collection, OMB Control No. 9000-0043 will be discontinued. The burden requirements previously approved under the discontinued number will be covered under OMB Control No. 9000-0153.

This clearance covers the information that offerors or contractors must submit to comply with the following FAR requirements:

• FAR 52.211-7, Alternatives to Government-Unique Standards. This solicitation provision permits offerors to propose alternatives to Government-unique standards in response to Government solicitations. When an offeror proposes a voluntary consensus standard as an alternative to a Government-unique standard included in a solicitation, the offeror must furnish data and/or information regarding the alternative in sufficient detail for the Government to determine if it meets the Government's requirements. This provision is prescribed in FAR 11.107 for use when a solicitation uses Government-unique standards and the agency uses the transaction-based reporting method to report its use of voluntary consensus standards to the National Institutes of Standards and Technology (NIST). This provision is optional for use if an agency uses the categorical method to report to NIST. In accordance with OMB Circular A-119, Federal Participation in the Development and Use of Voluntary Consensus Standards and in Conformity Assessment Activities, and section 12(d) of the National Technology Transfer and Advancement Act of 1995 (Pub. L. 104-113, 15 U.S.C. 272 note), agencies must use voluntary consensus standards, when they exist, in lieu of Government-unique standards, except where inconsistent with law or otherwise impractical. The information collected from offerors will be used by Federal agencies to determine if voluntary consensus standards will satisfy the Government's needs for a particular solicitation.

• FAR 52.211-8, Time of Delivery; and 52.211-9, Desired and Required Time of Delivery. These time of delivery clauses may be used by contracting officers to set forth a required delivery schedule and to allow offerors to propose an alternative delivery schedule. Contracting officers use the collected information to ensure supplies or services are obtained in a timely manner.

C. Annual Burden

Respondents: 1,377.

Total Annual Responses: 1,377.

Total Burden Hours: 738.5.

D. Public Comment

A 60-day notice was published in the Federal Register at 88 FR 62085, on September 8, 2023. No comments were received.

Obtaining Copies: Requesters may obtain a copy of the information collection documents from the GSA Regulatory Secretariat Division, by calling 202-501-4755 or emailing GSARegSec@gsa.gov. Please cite OMB Control No. 9000-0153, Federal Acquisition Regulation Part 11 Requirements.

Janet Fry,
Director, Federal Acquisition Policy Division, Office of Governmentwide Acquisition Policy, Office of Acquisition Policy, Office of Governmentwide Policy.

[FR Doc. 2023-25727 Filed 11-20-23; 8:45 am]

BILLING CODE 6820-EP-P